DEPARTMENT OF AGRICULTURE

Agricultural Marketing Service

7 CFR Part 1214

[Document No. AMS-FV-10-0008-PR-1A]

RIN 0581-AD00

Proposed Christmas Tree Promotion, Research, and Information Order; Extension of Comment Period on Proposed Establishment of a Program

AGENCY: Agricultural Marketing Service, USDA.

ACTION: Reopening and extension of comment period.

SUMMARY: Notice is hereby given that the comment period on the proposed establishment of an industry-funded promotion, research, and information program for fresh cut Christmas trees is reopened and extended. The comment period is also reopen and extended for the new Christmas tree information collection requirements by the Office of Management and Budget (OMB) for the operation of the proposed program. The proposed Christmas Tree Promotion, Research, and Information Order (Proposed Order), was submitted to the Department of Agriculture (Department) by the Christmas Tree Checkoff Task Force, an industry wide group of producers and importers that support this proposed program.

DATES: Comments must be received by March 9, 2011. Pursuant to the Paperwork Reduction Act (PRA), comments on the information collection burden that would result from this proposal must be received by March 9, 2011.

ADDRESSES: Interested persons are invited to submit written comments on the Internet at http://www.regulations.gov or to the Research and Promotion Branch, Fruit and Vegetable Programs, AMS, USDA, 1400 Independence Avenue, SW., Stop 0244, Room 0632-S, Washington, DC 20250-0244; fax: (202) 205-2800. All comments should reference the docket number and the date and page number of this issue of the Federal Register and will be made available for public inspection in the above office during regular business hours or can be viewed at http://www.regulations.gov. All comments submitted in response to this proposed rule will be included in the record and will be made available to the public. Please be advised that the identity of the individuals or entities submitting comments will be made public on the Internet at the address provided above.

Pursuant to PRA, comments regarding the accuracy of the burden estimate, ways to minimize the burden, including the use of automated collection techniques or other forms of information technology, or any other aspect of this collection of information, should be sent to the above address. In addition, comments concerning the information collection should also be sent to the Desk Office for Agriculture, Office of Information and Regulatory Affairs, Office of Management and Budget, New Executive Office Building, 725 17th Street, NW., Room 725, Washington, DC 20503.

FOR FURTHER INFORMATION CONTACT: Patricia A. Petrella, Marketing Specialist, Research and Promotion Branch, Fruit and Vegetable Programs, AMS, USDA, 1400 Independence Avenue, SW., Room 0632, Stop 0244, Washington, DC 20250-0244; telephone: (301) 334-2891; or facsimile: (301) 334-2896; or e-mail: Patricia.Petrella@ams.usda.gov.

SUPPLEMENTARY INFORMATION: A proposed rule was issued on November 2, 2010, and published in the Federal Register on November 8, 2010, (75 FR 68512). That rule proposed the establishment of an industry-funded promotion, research, and information program for fresh cut Christmas trees.

USDA was contacted by a congressman and received several letters from North Carolina growers requesting the comment period be reopened and extended to allow additional time to submit their comments. The growers also expressed that the comment period was open during their busiest time of the year.

USDA is reopening the comment period an additional 15 days to allow interested persons more time to review the proposed rule, perform a complete analysis, and submit written comments.

This notice is issued pursuant to the Commodity Promotion, Research, and Information Act of 1996 (1996 Act) (7 U.S.C. 7411-7425).

Dated: February 16, 2011.
Rayne Pegg,
Administrator, Agricultural Marketing Service.

[FR Doc. 2011-3934 Filed 2-18-11; 8:45 am]

BILLING CODE P